DEPARTMENT OF ENERGY

Federal Energy Regulatory Commission

[Project No. 10821-005]

Pacific Gas & Electric Company; Notice Soliciting Scoping Comments

Take notice that the following application has been filed with the Commission and is available for public inspection.

a. Type of Application: Subsequent License—Transmission Line Only.

b. Project No.: P-10821-005.

c. Date filed: June 27, 2019.

d. Applicant: Pacific Gas & Electric Company (PG&E).

e. Name of Project: Camp Far West Transmission Line Project.

f. Location: The existing transmission line project, with proposed modifications, would be located in Placer and Yuba Counties, California. The project would occupy a total of 52.3 acres and include tribal land managed by the U.S. Department of the Interior, Bureau of Indian Affairs (Auburn Off-Reservation Land Trust) and federal land managed by the U.S. Department of Defense (Beale Air Force Base).

g. Filed Pursuant to: Federal Power Act 16 U.S.C. 791 (a)-825(r).

h. Applicant Contact: Mr. Robert Donovan, Senior Transmission Planner, Pacific Gas & Electric Company, 245 Market Street, Room 1053B, Mail Code N10A, San Francisco, California 94105.

i. FERC Contact: Quinn Emmering, (202) 502-6382, quinn.emmering@ferc.gov.

j. Deadline for filing scoping comments: June 12, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10821-005.

k. This application is not ready for environmental analysis at this time.

l. The existing Camp Far West Transmission Line Project includes a 1.9-mile-long, three-phase, 60-kilovolt (kV) transmission line extending from the powerhouse of the Camp Far West Hydroelectric Project in Placer County to an interconnection with PG&E's 9-mile-long Smartville-Lincoln (formerly Smartville-Pleasant Grove) 60-kV transmission line. The Camp Far West Transmission Line Project is a transmission line only project; therefore, the project does not generate power, nor does it include any dams, diversions, or otherwise discharge to surface waters, nor does it include recreation facilities. The transmission line project annually transmits approximately 26,900 megawatt hours of energy generated at the project powerhouse for the Camp Far West Hydroelectric Project.

PG&E proposes to include the 9-mile-long Smartville-Lincoln 60-kV transmission line as a project facility in any subsequent license issued for the project. PG&E has determined that, while this segment of transmission line used to carry electricity from multiple sources, it now only carries electricity from the Camp Far West Hydroelectric Project to the integrated transmission system. Due to this, PG&E believes that the 9-mile-long segment should be considered part of the primary transmission line for the Camp Far West Hydroelectric Project and that it be incorporated into the Camp Far West Transmission Line Project. As proposed, the Camp Far West Transmission Line Project would consist of 10.9-mile-long, three-phase, 60-kV transmission line extending from the powerhouse of the Camp Far West Hydroelectric Project to the interconnection point located at Beale Air Force Base.

m. In addition to publishing the full text of this document in the Federal Register. The Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

n. You may also register online at http://www.ferc.gov/docs-filing/esubscription.asp to be notified via email of new filings and issuances related to this or other pending projects. For assistance, contact FERC Online Support.

o. Scoping Process

The Commission staff intends to prepare an Environmental Assessment (EA) for the Camp Far West Transmission Line Project in accordance with the National Environmental Policy Act. The EA will consider both site-specific and cumulative environmental impacts and reasonable alternatives to the proposed action.

Commission staff does not propose to conduct any on-site scoping meetings at this time. Instead, we are soliciting comments, recommendations, and information, on the Scoping Document (SD) issued on May 13, 2020.

Copies of the SD outlining the subject areas to be addressed in the EA were distributed to the parties on the Commission's mailing list and the applicant's distribution list. Copies of the SD may be viewed on the web at http://www.ferc.gov using the “eLibrary” link. Enter the docket number excluding the last three digits in the docket number field to access the document. For assistance, call 1-866-208-3676 or for TTY, (202) 502-8659.

Dated: May 13, 2020.
Kimberly D. Bose,
Secretary.

[FR Doc. 2020-10721 Filed 5-18-20; 8:45 am]

BILLING CODE 6717-01-P